DEPARTMENT OF HOUSING AND URBAN DEVELOPMENT

[Docket No. FR-5851-N-03]

Rental Assistance Demonstration (RAD)—Alternative Requirements or Waivers: Alternative Requirements for Use of Public Housing Units for the San Francisco Housing Authority

AGENCY: Office of the Assistant Secretary for Public and Indian Housing, and Office of the Assistant Secretary for Housing—Federal Housing Commissioner, HUD.

ACTION: Notice.

SUMMARY: The Rental Assistance Demonstration (RAD) statute gives HUD authority to establish waivers and alternative requirements. This notice advises that HUD is providing alternative requirements for statutory limits on the use of public housing units in response to plans submitted by the San Francisco Housing Authority (SFHA) to preserve available affordable housing in its jurisdiction and use unoccupied public housing units to temporarily house former public housing families whose units are undergoing renovations.

DATES: Effective date: February 16, 2016.

FOR FURTHER INFORMATION CONTACT: Thomas R. Davis, Director of the Office of Recapitalization, Office of Housing, Department of Housing and Urban Development, 451 7th Street SW., Washington, DC 20410-7000; telephone number 202-708-0001 (this is not a toll-free number). Hearing- and speech-impaired persons may access these numbers through TTY by calling the Federal Relay Service at 800-877-8339 (this is a toll-free number).

Background and Action

The RAD statute (Pub. L. 112-55, approved November 18, 2011, as amended) gives HUD authority to waive or specify alternative requirements for, among other things, provisions of the United States Housing Act of 1937 (the 1937 Act). In order to utilize this authority, the RAD statute requires HUD to publish by notice in the Federal Register any waiver or alternative requirement no later than 10 days before the effective date of such notice. This notice meets this publication requirement.

In November of 2015, the SFHA closed on transactions involving 14 public housing properties using a combination of RAD and Section 8. Plans for the 14 projects include in-place rehabilitation requiring temporary relocation of the 1,425 households. To accomplish this large-scale temporary relocation, the SFHA will utilize a number of relocation options. In addition to traditional relocation options, the SFHA has asked HUD for the ability to use, during rehabilitation after conversion, 58 public housing units as temporary relocation housing for former public housing residents of projects that receive assistance converted pursuant to RAD.

Accordingly, HUD is specifying alternative requirements for sections 9(d)(3)(A) and (B) of the 1937 Act (42 U.S.C. 1437g(d)(3)(A) and (B)). Subject to certain conditions that the SFHA has agreed to follow, HUD is allowing the SFHA to follow its stated relocation plans.

Dated: January 21, 2016.
Lourdes Castro Ramírez,
Principal Deputy Assistant Secretary for Public and Indian Housing.
Edward L. Golding,
Principal Deputy Assistant Secretary for Housing.
Approved on January 21, 2016.
Nani A. Coloretti,
Deputy Secretary.

[FR Doc. 2016-02172 Filed 2-4-16; 8:45 am]

BILLING CODE 4210-67-P